ENVIRONMENTAL PROTECTION AGENCY

40 CFR Part 52

[ME056-1-7005a; FRL-7269-6]

Approval and Promulgation of Air Quality Implementation Plans; Maine; Reasonably Available Control Technology for Nitrogen Oxides

AGENCY: Environmental Protection Agency (EPA).

ACTION: Direct final rule.

SUMMARY: The EPA is approving a State Implementation Plan (SIP) revision submitted by the State of Maine. This SIP revision establishes and requires Reasonably Available Control Technology (RACT) at stationary sources of nitrogen oxides (NOX) in York, Cumberland, Sagadahoc, Androscoggin, Kennebec, Lincoln, and Knox counties. The intended effect of this action is to approve regulatory provisions and source specific air emissions licenses which require major stationary sources of NOX to reduce their emissions in accordance with requirements of the Clean Air Act.

DATES: This direct final rule is effective on November 8, 2002 without further notice, unless EPA receives adverse comment by October 9, 2002. If adverse comment is received, EPA will publish a timely withdrawal of the direct final rule in the Federal Register and inform the public that the rule will not take effect.

ADDRESSES: You should address your comments to Mr. David Conroy, Unit Manager, Air Quality Planning Unit, Office of Ecosystem Protection (mail code CAQ), U.S. Environmental Protection Agency, Region I, One Congress Street, Suite 1100, Boston, MA 02114-2023. Copies of the documents relevant to this action are available for public inspection during normal business hours, by appointment at the Office of Ecosystem Protection, U.S. Environmental Protection Agency, Region I, One Congress Street, 11th floor, Boston, MA, and the Bureau of Air Quality Control, Department of Environmental Protection, First Floor of the Tyson Building, Augusta Mental Health Institute Complex, Augusta, ME 04333-0017.

FOR FURTHER INFORMATION CONTACT: Dan Brown, Environmental Engineer, Air Quality Planning Unit (CAQ), U.S. EPA, Region I, One Congress Street, Suite 1100, Boston, MA 02114-2023; (617) 918-1532; brown.dan@epa.gov.

SUPPLEMENTARY INFORMATION: This document is organized according to the following Table of Contents.

I. What Action Is EPA Taking Today?

II. Why Is the EPA Taking This Action?

III. What Did Maine Submit as Part of Its SIP?

A. Chapter 138

B. Miscellaneous NOX RACT and the Alternative NOX RACT for Pioneer Plastics Corporation in Auburn, Maine

C. Miscellaneous NOX RACT for Dragon Products Company, Inc., in Thomaston, Maine

D. Alternative NOX RACT for Tree Free Fiber Company, LLC, (formerly Statler Tissue) in Augusta, Maine

E. Alternative NOX RACT for Mid-Maine Waste Action Corporation's Facility in Auburn, Maine

F. Alternative NOX RACT for Maine Energy Recovery Company in Biddeford, Maine

G. Miscellaneous and Alternative NOX RACT for Portsmouth Naval Shipyard in Kittery, Maine

H. Capacity Limitations and the Testing, Monitoring, Recordkeeping, and Reporting Requirements for S.D. Warren Company in Westbrook, Maine

I. Testing, Monitoring, Recordkeeping and Reporting Requirements for FMC Corporation—Food Ingredients Division in Rockland, Maine

J. Alternative NOX RACT and Testing, Monitoring, Recordkeeping and Reporting Requirements for the Chinet Company in Waterville, Maine

K. Testing, Monitoring, Recordkeeping and Reporting Requirements for Scott Paper Company in Winslow, Maine

L. Testing, Monitoring, Recordkeeping and Reporting Requirements for FPL Energy's (formerly Central Maine Power) W.F. Wyman Station in Yarmouth, Maine

IV. What Is the Relationship Between the Chapter 138 NOX RACT Rule and the Chapter 117 Source Surveillance Rule?

V. What Are the Administrative Requirements?

I. What Action Is EPA Taking Today?

The EPA is approving Chapter 138 as well as the air emissions licenses for Pioneer Plastics Corporation in Auburn; Dragon Products, Incorporated, in Thomaston; Tree Free Fiber Company, LLC, (formerly Statler Tissue) in Augusta; Mid-Maine Waste Action Corporation in Auburn; Maine Energy Recovery Company in Biddeford; Portsmouth Naval Shipyard in Kittery; S.D. Warren Company in Westbrook; FMC Corporation—Food Ingredients Division in Rockland; the Chinet Company in Waterville; Scott Paper Company in Winslow; and FPL Energy's (formerly Central Maine Power) W.F. Wyman Station in Yarmouth, as collectively meeting the CAA requirements for NOX RACT in the moderate nonattainment areas of Maine. This approval action will incorporate these documents into the Maine SIP.

The EPA is publishing this action without prior proposal because the Agency views this as a noncontroversial amendment and anticipates no adverse comments. However, in the proposed rules section of this Federal Register publication, EPA is publishing a separate document that will serve as the proposal to approve the SIP revision should relevant adverse comments be filed. This rule will be effective November 8, 2002 without further notice unless the Agency receives relevant adverse comments by October 9, 2002.

If the EPA receives such comments, then EPA will publish a notice withdrawing the final rule and informing the public that the rule will not take effect. All public comments received will then be addressed in a subsequent final rule based on the proposed rule. The EPA will not institute a second comment period on the proposed rule. Only parties interested in commenting on the proposed rule should do so at this time. If no such comments are received, the public is advised that this rule will be effective on November 8, 2002 and no further action will be taken on the proposed rule.

II. Why Is the EPA Taking This Action?

The EPA is approving Maine's SIP submittals because they comply with EPA's NOX RACT related policies, including the “Nitrogen Oxides Supplement to the General Preamble” (57 FR 55620) and additional EPA guidance memoranda, such as those included in the “NOX Policy Document for the Clean Air Act of 1990,” (EPA-452/R-96-005, March 1996). Review of the NOX RACT SIP submittals, including Chapter 138, the miscellaneous NOX RACT determinations, the alternative NOX RACT determinations, as well as the licenses containing testing, monitoring, recordkeeping, and reporting requirements, indicate that Maine has sufficiently defined the NOX RACT requirements for major stationary sources of NOX located in York, Cumberland, Sagadahoc, Androscoggin, Kennebec, Lincoln, and Knox counties in Maine. These seven counties make up the three areas of Maine classified as moderate nonattainment for the one-hour national ambient air quality standards for ozone.

The Clean Air Act (CAA) requires that States develop Reasonably Available Control Technology (RACT) regulations for all major stationary sources of NOX in areas classified as “moderate,” “serious,” “severe,” and “extreme” ozone nonattainment areas, and in all areas of the Ozone Transport Region (OTR). This requirement is established by sections 182(b)(2), 182(f), and 184(b) of the CAA as described below.

Section 182(b)(2) of the CAA requires States to require implementation of RACT with respect to all major sources of volatile organic compounds (VOCs) in moderate ozone nonattainment areas or in areas with higher than moderate nonattainment classifications as expeditiously as practicable but no later than May 31, 1995. Furthermore, section 182(f) states that, “the plan provisions required under this subpart for major stationary sources of volatile organic compounds shall also apply to major stationary sources (as defined in section 302 and subsections (c), (d), and (e) of the section) of oxides of nitrogen.” Additionally, section 184(b)(2) requires major stationary sources in the OTR, which includes all of Maine, to meet the requirements applicable to major sources as if the area is classified as a moderate nonattainment area (unless already classified at a higher nonattainment level) as well. These sections of the CAA, taken together, establish the requirements for Maine to submit a NOX RACT regulation which covers major sources statewide.

Section 302 of the CAA generally defines “major stationary source” as a facility or source of air pollution which has the potential to emit 100 tons per year or more of air pollution. This definition applies unless another provision of the CAA explicitly defines major source differently. For NOX, in marginal and moderate areas, and attainment areas in the OTR, a major source is one with the potential to emit 100 tons per year or more. Therefore, for purposes of applicability to NOX RACT in Maine, a major stationary source of NOX is a facility with the potential to emit 100 tons or more per year of NOX.

At the time of adoption of Chapter 138, Maine had four areas which were designated as ozone nonattainment: the Hancock and Waldo area, which was classified as marginal nonattainment; the Knox and Lincoln county area, which was classified as moderate nonattainment; the Lewiston-Auburn area, which was classified as moderate nonattainment; and, the Portland area, which was classified as moderate nonattainment (see 40 CFR Part 81 for the list of affected towns). On February 28, 1997, the EPA approved a request by the State of Maine to redesignate the Hancock and Waldo area from marginal nonattainment to attainment (62 FR 9081).

On December 26, 1995, EPA approved Maine's Chapter 138 NOX RACT rule as it applied to the Hancock and Waldo area as well as the other non-moderate counties in Maine (i.e., Oxford, Franklin, Somerset, Piscataquis, Penobscot, Washington, and Aroostook) that collectively make up the Northern Maine Area (see 60 FR 66748). The December 26, 1995, approval also included a NOX waiver under section 182(f) of the Clean Air Act. The waiver was limited in that it did not require anything above the Chapter 138 NOX RACT rule for the nine counties making up the northern Maine area at that time. Section 182(f) allows the Administrator to issue such a waiver upon making a determination that air quality benefits would be greater in the absence of NOX reductions from sources in a RACT subject area.

In today's action we are approving Chapter 138 as it applies in the three current moderate nonattainment areas: Knox and Lincoln area, Lewiston-Auburn area (Androscoggin and Kenebeck Counties) and Portland area (York, Cumberland and Sagadahoc Counties). With this action Chapter 138 will be approved statewide and, therefore, will meet requirements that Maine submit a NOX RACT regulation which covers major sources statewide.

III. What Did Maine Submit as Part of Its SIP?

On August 5, 1994, the State of Maine formally submitted Chapter 138 as a SIP revision. On July 1, 1997, Maine submitted case-specific NOX RACT determinations as single source SIP revisions for the following facilities: Pioneer Plastics Corporation in Auburn (Pioneer); Mid-Maine Waste Action Corporation in Auburn (MMWAC); Tree Free Fiber Company, LLC, (formerly Statler Tissue) in Augusta (TF/ST); Dragon Products, Incorporated in Thomaston (Dragon); and Maine Energy Recovery Company in Biddeford (MERC). On August 14, 1998, Maine submitted case-specific NOX RACT determinations as single source SIP revisions for the following facilities: FPL Energy's (formerly Central Maine Power) W.F. Wyman Station in Yarmouth (FPL); FMC Corporation—Food Ingredients Division's Rockland facility (FMC); Portsmouth Naval Shipyard (PSNY) in Kittery; the Chinet Company's Waterville facility (Chinet); Scott Paper Company's Winslow facility (Scott); and S.D. Warren Company's Westbrook facility (S.D. Warren). On October 9, 1997, Maine submitted an amendment to the case specific NOX RACT determination for PSNY in Kittery.

The following is a description of the Maine SIP revisions being approved in this action, including regulations and case-specific NOX RACT determinations. For a more detailed discussion of Maine's submittals and EPA's proposed action, the reader should refer to, “Technical Support Document—Maine NOX RACT in the Moderate Nonattainment Areas” (TSD), dated December 14, 1998. Copies of the TSD are found in the rulemaking docket (see Addresses).

A. Chapter 138

Chapter 138 of Maine's regulations contains five general sections. Section 1 deals with applicability and exemptions of facilities and equipment. In general, Chapter 138 applies to any existing stationary source that has potential to emit quantities of NOX emissions greater than or equal to 100 tons per year statewide. Subsections 1(A)(1) and (2) of the regulation further define the applicability of various control technology requirements for sources subject to Chapter 138 depending on the ozone nonattainment classification of their location.

Subsection 1(A)(1) states that, “[B]y May 31, 1995, any source located in any area designated by the Federal Government under 40 Code of Federal regulations, Part 81 as a moderate nonattainment area for ozone shall comply with the standards specified in Section 3.” Prior to May 31, 1995, EPA designated the following counties in Maine as moderate nonattainment: York, Cumberland, Sagadahoc, Androscoggin, Kennebec, Lincoln, and Knox counties.

Section 1(A)(2) states that, “[B]y May 31, 1995, any source located in an area in the state that is not designated by the Federal Government under 40 Code of Federal Regulations, Part 81 as a moderate nonattainment area for ozone shall comply with the standards specified in Sections 3(A), 3(C)-3(O), and Section 4.” By May 31, 1995, the areas that were not designated as moderate areas in Maine included: Aroostook, Penobscot, Piscataquis, Washington, Somerset, Franklin, and Oxford counties, classified as attainment areas, as well as Hancock and Waldo counties, classified as marginal non-attainment areas. The reader should note that on December 26, 1995, EPA published a document in the Federal Register (60 FR 66748) approving Chapter 138, as it applies to the non-moderate areas of the State, into the Maine SIP.

Section 1(B) of the regulation contains provisions to exempt equipment and facilities where the NOX emitting equipment has the potential to emit less than 10 tons per year of NOX or where emergency standby engines operate for less than 500 hours during any consecutive 12 month period and the ignition timing is set and maintained at four degrees retarded to standard timing.

Section 2 of Chapter 138 contains a number of definitions. Several are particular to Maine's regulation and are not related to a federal requirement. These include: large boiler, small boiler, mid-size boiler, lime kiln, MgO recovery boiler, auxiliary/standby boiler, and kraft recovery boiler. Chapter 138 also contains definitions of several terms that have been defined in EPA regulations or guidance. These terms include: potential to emit, and, repowering project unit.

Section 3 defines NOX emission limitations, technology standards, or work practice standards for RACT subject sources. Section 3 sets NOX emission limitations for large boilers, i.e., boilers with an energy input capacity of 1500 million Btu per hour (mmBtu/hr). These limits are set on a 24 hour basis and compliance must be demonstrated through the use of a continuous emissions monitoring system (CEMS).

Section 3 defines NOX emission limits or technology standards for mid-size boilers (i.e., boilers with energy input capacities greater than or equal to 50 mmBtu/hr but less than 1500 mmBtu/hr). Section 3 requires mid-size boilers with heat input capacities greater than 200 mmBtu/hour or greater to demonstrate compliance on a 24 hour block average basis through the use of continuous emission monitoring systems.

For small boilers (i.e., units with heat input capacities greater than 20 mmBtu/hour but less than 50 mmBtu/hour), section 3 of Chapter 138 requires that annual tune-ups be performed on the boilers. The regulations specify the types of records to be kept during the tune-up procedure as well as a requirement for the periodic verification of the parameter settings. Similarly, for auxiliary or standby boilers (i.e., boilers limited to less than 100 tons per year, 12 month rolling average, and 20 tons per month), section 3 defines RACT as the same annual tune-up and recordkeeping procedures for small boilers.

For kraft recovery boilers, magnesium oxide (MgO) recovery boilers, and lime kilns, section 3 of Chapter 138 sets NOX emission limitations. For the recovery boilers, the regulation requires compliance to be demonstrated on a 24 hour basis by a CEMS. For lime kilns, compliance is determined by stack testing. Section 3 of Chapter 138 sets NOX emission limits for refuse derived fuel (RDF) municipal solid waste (MSW) incinerators and mass burn MSW incinerators as well with compliance demonstrations on a 24 hour basis using a CEMS.

For NOX emitting units located at major stationary sources not covered by the specific standards of sections 3(A) through 3(G), i.e., miscellaneous RACT sources, section 3 of Chapter 138 requires that the source conduct a RACT alternatives analysis. Section 3 also requires sources seeking alternative RACT determinations to submit an application to revise the facility's air emission license, including a description of the NOX emitting equipment at the facility, an examination of the technical and economic feasibility of various NOX control options, the option chosen, including emission limits, test methods, and means of assessing compliance, the amount of NOX to be reduced, and a schedule for implementation. In order for these determinations to satisfy the SIP requirements of the CAA, the RACT orders must be submitted and approved as case-specific SIP revisions.

Section 3 of Chapter 138 also allows sources to comply with alternative emission limitations through the seasonal combustion of different fuels (i.e., “fuel-switching”) or through the use of emissions averaging. Additionally, section 3 allows a facility to delay the installation of NOX controls on existing NOX emitting equipment in order to complete the dismantling and repowering of any of its equipment. In order to eligible for such “repowering” provisions,” the facility have an enforceable agreement with the DEP by January 1, 1995, committing them to shut down and repower the equipment by May 15, 1999. Furthermore, the replacement unit must have a BACT or LAER limit in place. The regulations contain a presumptive NOX RACT control requirement that units to be repowered perform annual tune-ups between March 15 and June 15 of each year, starting in 1995, until the new unit is in place.

Section 4 of Chapter 138 only applies to NOX sources in the non-moderate areas of the State. As noted above, EPA published a Federal Register notice on December 26, 1995, approving that section into the Maine SIP. Therefore, no further action is necessary for that section of Chapter 138.

Section 5 of the regulations include provisions for the submittal and approval of NOX RACT applications for facilities subject to section 3 of Chapter 138. These provisions also lay out the process by which DEP issues RACT orders, including the public comment process. Section 5 requires units to specify testing, monitoring, recordkeeping, and reporting procedures, which are subject to State and EPA approval as part of the RACT order application and issuance process. However, in order for the testing, monitoring, record keeping, and reporting requirements to be enforceable, as they apply to units for which Chapter 138 does not define such requirements, those requirements must be made part of final RACT orders in air emission licenses and subsequently submitted to EPA as SIP revisions.

B. Miscellaneous NOX RACT and the Alternative NOX RACT for Pioneer Plastics Corporation in Auburn, Maine

Pioneer Plastics is a plastics manufacturing company with a facility which is subject to Chapter 138. The Pioneer Plastics' Auburn facility includes a thermal oxidizer unit (incinerator) used to destroy volatile organic compounds (VOCs) and hazardous air pollutants (HAPs). Chapter 138, section 3(H) requires owners of miscellaneous stationary sources to submit an analysis of NOX RACT options and for Maine to determine RACT for those sources on a case by case basis.

In its RACT analysis, Pioneer demonstrated that because the use of add-on NOX controls would reduce the destruction efficiency incinerator, those methods are considered technically infeasible as RACT options. Therefore, Maine issued air emissions licenses A-448-72-K-A/R and A-448-71-O-M, amendment #2, on August 23, 1995, and March 10, 1997, respectively, requiring annual inspection and repair of the duct work, including the seals of the doors of the unit, as well as of the burner components, as NOX RACT for this unit.

Pioneer also has a boiler, Boiler #6, which meets the Chapter 138 definition of a mid-size boiler. However, Pioneer applied for an alternative NOX RACT determination which examined a number of NOX control technologies for the boiler. As a result, Maine issued licenses A-448-72-K-A/R and A-448-71-O-M, amendment #2, which define alternative RACT as optimizing the boiler and using natural gas whenever available at the interruptible purchase rate (approximately 8 months of the year). The licenses were submitted to EPA as a SIP revision on July 1, 1997.

C. Miscellaneous NOX RACT for Dragon Products Company, Inc., in Thomaston, Maine

Dragon Products Company in Thomaston, Maine, (Dragon) has a cement making facility subject to Chapter 138. Chapter 138 does not define NOX RACT explicitly for cement kilns but rather section 3(H) requires owners of such miscellaneous stationary sources to submit an analysis of NOX RACT options from which Maine can define RACT on a case by case basis.

Dragon submitted an analysis of NOX controls to Maine which demonstrated that post combustion controls were not economically feasible. On June 5, 1996 and March 5, 1997, Maine issued air emission licenses A-326-72-N-A, amendment #5, and A-326-71-P-M, amendment #7, which require the implementation of a variety of combustion and process changes, including the installation of a low-NOX burner system. The license was submitted to EPA as a SIP revision on July 1, 1997.

D. Alternative NOX RACT for Tree Free Fiber Company, LLC, (Formerly Statler Tissue) in Augusta, Maine

Tree Free Fiber Company's facility in Augusta (formerly Statler Tissue) is subject to Chapter 138. Statler Tissue applied for alternative NOX RACT determinations for two of the mid-size boilers at the facility, Boilers #3, and #5. In their application, Statler analyzed a number of RACT options for boilers #3 and #5 but no option was shown to be economically feasible. Therefore, Maine DEP determined that for boilers #3 and #5, annual boiler tune-ups was RACT.

In February 1995, operations at the Statler Tissue (ST) facility were suspended. The property and licenses were transferred to Tree Free Fiber Company (TF). Subsequently, TF/ST requested several minor revisions to the air emission license for the facility. On June 12, 1996, the Maine DEP issued air emission license A-195-71-G-M which superseded a number of conditions found in the earlier license. For example, license A-195-71-G-M requires TF/ST to reevaluate the RACT alternatives within 6 months of the facility exceeding a capacity utilization threshold of 3,000,000 gallons on a 12 month rolling average basis of fuel oil burned. The license was submitted to EPA as a SIP revision on July 1, 1997.

E. Alternative NOX RACT for Mid-Maine Waste Action Corporation's Facility in Auburn, Maine

Mid-Maine Waste Action Corporation (MMWAC) has a facility in Auburn, Maine which includes two refractory lined, mass-burn municipal waste combustors (MWCs) which are subject to Chapter 138, section 3(G). Mid-Maine Waste Action Corporation submitted a RACT application pursuant to Chapter 138, section (I) which examined a number of NOX control techniques. The NOX controls were found to be technically and economically infeasible. On October 16, 1996, Maine issued license A-378-72-E-A, Amendment #2 to MMWAC which was submitted to EPA as a SIP revision on July 1, 1997.

F. Alternative NOX RACT for Maine Energy Recovery Company in Biddeford, Maine

Maine Energy Recovery Company (MERC) has a facility in Biddeford, Maine which includes two refuse-derived fuel (RDF) boilers which are subject to the NOX RACT emissions limit in Chapter 138, section 3(F) for RDF units. In this case, the proposed alternative NOX RACT determination expresses the emission standard in another form and does not result in an increase in actual NOX emissions from the NOX RACT limit defined in Chapter 138. Therefore, it was not necessary that MERC analyze alternative NOX control systems. Air emissions license A-46-71-L-A was submitted to EPA as a SIP revision on July 1, 1997.

G. Miscellaneous and Alternative NOX RACT for Portsmouth Naval Shipyard in Kittery, Maine

Portsmouth Naval Shipyard (PNSY) is subject to Chapter 138. The NOX emitting equipment at the Kittery facility include four boilers and eleven diesel fired internal combustion (IC) engines. PNSY has eleven IC engines which operate more than 500 hours per year. However, Chapter 138 does not define NOX RACT for engines that operate more than 500 hours. Therefore, these engines are considered miscellaneous stationary sources under Chapter 138, section 3(H). In February 1995, PNSY submitted to Maine a RACT analysis for the eleven engines which examined a variety of NOX reducing techniques. Of all the techniques studied, only the ignition timing retard was shown to be economically and technically feasible for the three air compressor engines. For the eight crane engines, however, a number of safety concerns make even the use of ignition timing retard technically infeasible as RACT.

The PNSY facility also has four boilers which are subject to Chapter 138, section 3(B). Chapter 138 section 3(I), however, allows owners of stationary sources at RACT subject facilities to apply for an alternative RACT determination. As part of its alternative NOX RACT application, PNSY examined a number of NOX control techniques prior to the time when each boiler will be converted to natural gas-firing.

On October 21, 1996, Maine DEP issued license A-452-71-D-A, amendment #2, to PNSY which contained a schedule to convert the four boilers to natural gas, requirements for the boilers to meet the interim equipment standards and emission limits, as well as requirements for the IC engines. On August 14, 1998, Maine submitted the license A-452-71-D-A, amendment #2, to EPA as a SIP revision. On July 25, 1997, Maine DEP issued license A-452-71-F-M, amendment #4, to PNSY in which a minor revision was made to include the boiler optimization procedures in the Order section of the license (they were previously listed in the “Findings of Fact” section). On October 9, 1997, Maine submitted the license A-452-71-F-M, amendment #4, to EPA as a SIP revision.

H. Capacity Limitations and the Testing, Monitoring, Recordkeeping, and Reporting Requirements for S.D. Warren Company in Westbrook, Maine

S.D. Warren Company (S.D. Warren) has a facility in Westbrook, Maine which is subject to Chapter 138. At the Westbrook facility, there are three boilers for which S.D. Warren has requested capacity limitations on Power Boiler #17 (PB 17), Power Boiler #18 (PB 18), and Power Boiler #20 (PB 20) in order to avoid triggering the requirement for the installation and operation of NOX continuous emission monitoring systems under Chapter 138, section 3(B). On June 12, 1996, Maine DEP issued S.D. Warren air emission license A-29-71-Y-A, amendment #13, which limits the firing capacities of each of these boilers.

Additionally, Chapter 138 does not define the testing, monitoring, recordkeeping, and reporting requirements for all emission units at facilities subject to the regulation. Therefore, on August 14, 1998, Maine submitted to EPA air emission license A-29-71-Y-A, amendment #13, which contains the additional monitoring, recordkeeping, and reporting requirements necessary to fully define RACT for the boilers at S.D. Warren. The license was submitted to EPA as a SIP revision on August 14, 1998.

I. Testing, Monitoring, Recordkeeping and Reporting Requirements for FMC Corporation—Food Ingredients Division in Rockland, Maine

The FMC Corporation—Food Ingredients Division's (FMC) Rockland facility is subject to Chapter 138. However, Chapter 138 does not define the testing, monitoring, recordkeeping, and reporting requirements for all the emission units at facilities subject to the regulation. Therefore, on February 7, 1996, Maine issued air emission license A-366-72-H-A, amendment #5, to FMC which defines additional testing, monitoring, recordkeeping, and reporting requirements for the three boilers. The license was submitted to EPA as a SIP revision on August 14, 1998.

J. Alternative NOX RACT and Testing, Monitoring, Recordkeeping and Reporting Requirements for the Chinet Company in Waterville, Maine

Chinet Company's Waterville facility (Chinet) is subject to Chapter 138 of Maine's regulations. A number of boilers at the facility are subject to the NOX RACT requirements of section 3(L) for small boilers, including Boiler #1 and Boiler #4. However, Boilers #1 and #4 are rarely used. Therefore, Chinet has proposed that only if either of these boilers operates at a capacity factor of greater than 2%, must they comply with the requirements of section 3(L). If and when the threshold is exceeded, Chinet proposed to comply with the requirements of section 3(L) at both boilers within 90 days. On January 15, 1996, Maine issued air emission license A-416-72-B-A to Chinet formalizing the capacity trigger for Boilers #1 and #4, including the recordkeeping requirements.

Also, Chapter 138 does not define the testing, monitoring, recordkeeping, and reporting requirements for Boiler #5 at Chinet's Waterville facility. Therefore, on January 18, 1996, Maine issued air emission license A-416-72-B-A to Chinet which defines the testing, monitoring, recordkeeping, and reporting requirements for Boiler #5. The final license for Chinet was submitted to EPA as a SIP revision on August 14, 1998.

K. Testing, Monitoring, Recordkeeping and Reporting Requirements for Scott Paper Company in Winslow, Maine

Scott Paper Company's Winslow Facility (Scott) is subject to Chapter 138. However, Chapter 138 does not define the testing, monitoring, recordkeeping, and reporting requirements for Boiler #1, Boiler #2, and Boiler #4 at Scott. Therefore, on November 15, 1995, Maine issued air emission license A-188-72-E-A, amendment #2, to Scott which defines additional testing, monitoring, recordkeeping, and reporting requirements for Boilers #1, #2, and #4. The license was submitted to EPA as a SIP revision on August 14, 1998.

L. Testing, Monitoring, Recordkeeping and Reporting Requirements for FPL Energy's (formerly Central Maine Power) W.F. Wyman Station in Yarmouth, Maine

FPL Energy's W.F. Wyman Station in Yarmouth (FPL) is subject to Chapter 138. However, Chapter 138 does not define the testing, monitoring, recordkeeping, and reporting requirements for Boiler #5. Therefore, on May 18, 1995, and February 16, 1996, Maine issued air emission license A-388-71-C-A, amendment #1, and A-388-71-D-M, amendment #1, respectively, to FPL which define additional testing, monitoring, recordkeeping, and reporting requirements for Boiler #5. The licenses were submitted to EPA as SIP revisions on August 14, 1998.

IV. What Is the Relationship Between the Chapter 138 NOX RACT Rule and the Chapter 117 Source Surveillance Rule?

For large boilers, mid-size boilers with input capacities greater than 200 mmBtu/hour, kraft recovery boilers, MgO recovery boilers, mass burn and RDF incinerators, and units using emissions averaging for compliance, Chapter 138 requires the source to demonstrate compliance through the use of a NOX CEMS that satisfies the requirements of Chapter 117. Chapter 117 was first adopted by Maine on August 9, 1988 and approved it into the SIP on March 21, 1989. Chapter 117 contains the performance specifications, record keeping, reporting, and compliance schedule requirements for NOX sources.

On May 9, 1994, Maine revised Chapter 117 and submitted the adopted revisions to EPA on June 20, 1994. The revised Chapter 117 contains additional performance specifications, recordkeeping, reporting, compliance schedule, quality assurance/quality control, data availability, and compliance/enforcement requirements which apply to sources using a CEMS. The current, revised state version of Chapter 117 would apply to sources covered by Chapter 138. Through a separate rulemaking in the future the EPA will take action on the revised version Chapter 117.

V. What Are the Administrative Requirements?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 8, 2002. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Reporting and recordkeeping requirements.

Dated: August 16, 2002.
Robert W. Varney,
Regional Administrator, EPA New England.

Part 52 of chapter I, title 40 of the Code of Federal Regulations is amended as follows:

PART 52—[AMENDED]

1. The authority citation for part 52 continues to read as follows:

Authority: 42 U.S.C. 7401 et seq.

Subpart U—Maine

2. Section 52.1020 is amended by adding paragraphs (c)(46) and (c)(47) to read as follows:

§ 52.1020 Identification of plan.

* * * * *

(c) * * *

(46) Revision to the State Implementation Plan submitted by the Maine Department of Environmental Protection on August 5, 1994.

(i) Incorporation by reference.

(A) Chapter 138 of the Maine Department of Environmental Protection Regulations, “Reasonably Available Control Technology For Facilities That Emit Nitrogen Oxides.” Affects sources in York, Cumberland, Sagadahoc, Androscoggin, Kennebec, Lincoln, and Knox counties. This rule was adopted and effective in the State of Maine on August 3, 1994.

(ii) Additional materials.

(A) Letter from the Maine Department of Environmental Protection dated August 5, 1994 submitting a revision to the Maine State Implementation Plan.

(47) Revisions to the State Implementation Plan submitted by the Maine Department of Environmental Protection on July 1, 1997, October 9, 1997, and August 14, 1998.

(i) Incorporation by reference.

(A) Air emission license A-388-71-C-A, Amendment #1, condition (q); and A-388-71-D-M, amendment #1, conditions 19 and 23 for FPL Energy's (formerly Central Maine Power) W.F. Wyman Station issued by Maine Department of Environmental Protection on May 18, 1995, and February 16, 1996, respectively.

(B) Air emission licenses A-195-71-G-M, Amendment #1, and A-195-71-D-A/R, section (II)(D), paragraphs (II)(F)(1) and (3), and conditions 12(A), 12(C), (13), (14) and (15) for Tree Free Fiber Company, LLC, (formerly Statler Industries Inc.) issued by Maine Department of Environmental Protection on June 12, 1996, and, June 16, 1995, respectively.

(C) Air emission licenses A-448-72-K-A/R, paragraphs (II)(D)(2), (II)(D)(3) and conditions (13)(f) and 14(k); and A-448-71-O-M, Amendment #2, condition (14)(k), for Pioneer Plastics Corporation issued by Maine Department of Environmental Protection on August 23, 1995, and March 10, 1997, respectively.

(D) Air emission license A-188-72-E-A, Amendment #2, conditions 8, paragraph 1, and 9, paragraphs 1, 2 and 4, for Scott Paper Company issued by Maine Department of Environmental Protection on November 15, 1995.

(E) Air emission license A-416-72-B-A, conditions (l) 1, 2, 3a, 3b, 3c, 3e, and (m) for The Chinet Company issued by Maine Department of Environmental Protection on January 18, 1996.

(F) Air emission license A-366-72-H-A, Amendment #5, conditions 3, 4, 5, 7, 9, 11, 12, 15, 16, and 18 for FMC Corporation—Food Ingredients Division issued by Maine Department of Environmental Protection on February 7, 1996.

(G) Air emission licenses A-326-72-N-A, Amendment #5, and A-326-71-P-M, Amendment #7, for Dragon Products Company, Inc., issued by Maine Department of Environmental Protection on June 5, 1996, and March 5, 1997, respectively.

(H) Air emission license A-29-71-Y-A, Amendment #13, conditions (k)2, (k)3, (q)8 and (p) for S.D. Warren Company issued by Maine Department of Environmental Protection on June 12, 1996.

(I) Air emission license A-378-72-E-A, Amendment #2, for Mid-Maine Waste Action Corporation issued by Maine Department of Environmental Protection on October 16, 1996.

(J) Air emission licenses A-452-71-D-A, Amendment #2, conditions 3, 4, 5, 7, 9, 11, 16, 17, 18, 19, and 20; and A-452-71-F-M, Amendment #4, condition 4 for Portsmouth Naval Shipyard issued by Maine Department of Environmental Protection on October 21, 1996, and July 25, 1997, respectively.

(K) Air emission license A-46-71-L-A, Amendment #4, for Maine Energy Recovery Company issued by Maine Department of Environmental Protection on November 12, 1996.

(ii) Additional materials.

(A) Letters from the Maine Department of Environmental Protection dated July 1, 1997, October 9, 1997, and August 14, 1998, submitting case-specific NOX RACT determinations.

3. In § 52.1031 Table 52.1031 is amended by adding new entries under the existing state citation Chapter 138 to read as follows:

§ 52.1031—EPA—approved Maine Regulations

* * * * *

Table 52.1031—EPA-Approved Rules and Regulations
State citation | Title/Subject | Date adopted by State | Date approved by EPA | Federal Register citation | 52.1020 |
* * * * * * *
138 | NOX RACT | 8/3/94 | 9/9/02 | [Insert FR citation from published date] | (c)(46) | Affects sources in York, Cumberland, Sagadahoc, Androscoggin, Kennebec, Lincoln, and Knox counties.
138 | NOX RACT | 5/18/95 & 2/16/96 | 9/9/02 | [Insert FR citation from published date] | (c)(47) | Case-specific NOX RACT for FPL Energy's (formerly Central Maine Power) W.F. Wyman Station.
138 | NOX RACT | 6/16/95 & 6/12/96 | 9/9/02 | [Insert FR citation from published date] | (c)(47) | Case-specific NOX RACT for Tree Free Fiber Company, LLC. (formerly Statler Tissue).
138 | NOX RACT | 8/23/95 & 3/10/97 | 9/9/02 | [Insert FR citation from published date] | (c)(47) | Case-specific NOX RACT for Pioneer Plastics Corporation.
138 | NOX RACT | 11/15/95 | 9/9/02 | [Insert FR citation from published date] | (c)(47) | Case-specific NOX RACT for Scott Paper Company.
138 | NOX RACT | 1/18/96 | 9/9/02 | [Insert FR citation from published date] | (c)(47) | Case-specific NOX RACT for Chinet Company. date]
138 | NOX RACT | 2/7/96 | 9/9/02 | [Insert FR citation from published date] | (c)(47) | Case-specific NOX RACT for FMC Corporation—Food from Ingredients Division.
138 | NOX RACT | 6/5/96 & 3/5/97 | 9/9/02 | [Insert FR citation from published date] | (c)(47) | Case-specific NOX FR RACT for Dragon Products Company, Inc.
138 | NOX RACT | 6/12/96 | 9/9/02 | [Insert FR citation from published date] | (c)(47) | Case-specific NOX RACT for S.D. Warren Company.
138 | NOX RACT | 10/16/96 | 9/9/02 | [Insert FR citation from published date] | (c)(47) | Case-specific NOX RACT for Mid-Maine Waste Action Corporation.
138 | NOX RACT | 10/21/96 & 7/25/97 | 9/9/92 | [Insert FR citation from published date] | (c)(47) | Case-specific NOX RACT for Portsmouth Naval Shipyard.
138 | NOX RACT | 11/12/96 | 9/9/02 | [Insert FR citation from published date] | (c)(47) | Case-specific NOX RACT for Maine Energy Recovery Company.
* * * * * * *

[FR Doc. 02-22359 Filed 9-6-02; 8:45 am]

BILLING CODE 6560-50-P